DEPARTMENT OF JUSTICE

National Institute of Corrections

Solicitation for a Cooperative Agreement—Direct Supervision: Curriculum Development

AGENCY: National Institute of Corrections, Department of Justice.

ACTION: Solicitation for a cooperative agreement.

SUMMARY: The National Institute of Corrections, Jails Division, is seeking applications for the development of two training-program curricula: one that focuses on the role of the housing-unit officer and shift supervisor in a direct supervision jail and another that focuses on the role of the administrator in a direct supervision jail. The project will be for an eighteen-month period, and will be carried out in conjunction with the NIC Jails Division. NIC Jails Division staff will direct the project and will participate in curriculum design, lesson plan development, and the creation of related training materials.

DATES: Applications must be received by 4 p.m. (EDT) on Friday, April 10, 2009.

ADDRESSES: Mailed applications must be sent to: Director, National Institute of Corrections, 320 First Street, NW., Room 5007, Washington, DC 20534. Applicants are encouraged to use Federal Express, UPS, or a similar service to ensure delivery by the due date, as mail at NIC is sometimes delayed due to security screening.

Applicants who wish to hand-deliver their applications should bring them to 500 First Street, NW., Washington, DC 20534 and dial (202) 307-3106, ext. 0 at the front desk for pickup.

Faxed or e-mailed applications will not be accepted.

FOR FURTHER INFORMATION CONTACT: A copy of this announcement and the required application forms can be downloaded from the NIC Web page at http://www.nicic.gov.

All technical or programmatic questions concerning this announcement should be directed to Robbye Braxton-Mintz, Correctional Program Specialist, National Institute of Corrections. She can reached by calling 1-800-995-6423 ext. 4-4562 or by e-mail at rbraxtonmintz@bop.gov.

SUPPLEMENTARY INFORMATION:

Background

Direct supervision jails combine a physical plant design, interior fixtures and furnishings, and an inmate management philosophy to significantly reduce the problems commonly associated with jails, such as violence, vandalism, inmate rule violations, and unsanitary conditions. Direct supervision is based on eight principles: (1) Effective control, (2) effective supervision, (3) competent staff, (4) safety of staff and inmates, (5) manageable and cost-effective operations, (6) effective communication, (7) classification and orientation, and (8) justice and fairness. Although all staff in a direct supervision jail must understand the principles and their operational implications, there are three staff positions that are key in the implementation of direct supervision: the jail administrator, the shift supervisors, and the housing-unit staff. NIC intends to develop training programs to better prepare staff in each of these positions to carry out their duties in support of direct supervision. Two curricula will be developed to support this.

Curriculum #1: “The Role of the Housing Officer and Supervisor in a Direct Supervision Jail” and Curriculum #2: “The Role of the Administrator in a Direct Supervision Jail—Commitment, Leadership, and Support”

The first curriculum will focus on the role of the housing-unit officer and the shift supervisor in a direct supervision jail. It will be based on the NIC program titled “How to Run a Direct Supervision Housing Unit: Training for Trainers”. This program is currently designed to familiarize staff trainers in jails with “How to Run a Direct Supervision Housing Unit”, and prepare them to conduct this program for staff in their own jail.

Under this cooperative agreement project, NIC intends to update “How to Run a Direct Supervision Housing Unit”, which will be attended by a team of two trainers and two shift supervisors from each participating jail. This program will last up to five days. Immediately after completing this program, the trainers and shift supervisors will receive separate instruction for up to four days. The trainers will receive instruction (developed under this project) on conducting the program for staff in their own jail. The supervisors will receive training (developed under this project) on their role in supporting the officer in effective housing-unit management, based on what they learned in the first week. On the final day of training, the two groups will meet together to discuss what they have learned and how they can implement this in their jail. They will also develop an action plan to conduct “How to Run a Direct Supervision Housing Unit” for their housing-unit staff.

The second curriculum must be newly developed. It will focus on the role of the administrator in a direct supervision jail and will include, at a minimum: a discussion of the direct supervision principles; the jail administrator's leadership role related specifically to direct supervision; recruiting, hiring, promoting, and training staff in support of direct supervision; common challenges in implementing and sustaining direct supervision operations; decision making within the context of direct supervision; and assessing operations and operational outcomes within the framework of direct supervision. This program will be attended by administrators only. We anticipate this program will be no more than five days long.

Objectives: The National Institute of Corrections (NIC) wishes to develop two training curricula. The first will focus on the role of the housing-unit officer and the shift supervisor in implementing and supporting direct supervision. The second will focus on the role of the jail administrator in providing leadership and support for direct supervision.

Use of Curricula: NIC will use these curricula as the basis for its training programs on the role of the housing unit officer, shift supervisor, and administrator in a direct supervision jail.

The curricula will become the sole property of NIC, and will not be published for general distribution; however, curricula materials will be made available to training participants.

Scope of Work: The work will involve the production of two complete curricula, each of which will include: program description (overview); detailed narrative lesson plans; presentation slides for each lesson plan, and; participant manual that follows the lesson plans.

The curricula will be designed for adult learners and will take into account the need to accommodate a variety of learning styles. Lesson plans will be in a format that NIC provides.

The schedule for project completion should include, at a minimum, the following activities (for the development of both curricula): meet with NIC project manager for project overview and initial planning; review materials provided by NIC; meet with NIC staff to draft a framework for each curriculum, including content topics, sequencing, and time frames; meet with NIC staff to outline content for each module and assign writers (including one NIC staff); write lesson plans; exchange lesson plans among the writers for review; revise lesson plans; send lesson plans to advisory committee for review and comment (committee is composed of five members identified by NIC and paid by the awardee); meet with NIC staff to review comments and agree on revisions; revise lesson plans; develop participant manual, presentation slides, and program overview; submit final draft of all materials to NIC for review; revise as directed by NIC; and submit final curricula in camera-ready hard copy and on disk in Word format.

Curriculum #1 will be developed first. Because of the length and complexity of this curricula, lesson plans should be grouped into thirds for development. Also, this curriculum will be piloted in the Washington, DC area. To conduct the pilot, the awardee will hire four instructors for this nine-day program and pay for their fees, travel, lodging, meals, and any other related expenses. NIC will secure training space and equipment, select participants, and pay for all costs related to participant materials and participant travel, lodging, and meals, where necessary. The pilot will be conducted after all lesson plans, presentation slides, and the participant manual are drafted.

Curriculum #2 will be developed second and will be informed, at least in part, by curriculum #1. This curriculum will not be piloted under this cooperative agreement.

Application Requirements: An application package must include OMB Standard Form 424, Application for Federal Assistance; a cover letter that identifies the audit agency responsible for the applicant's financial accounts as well as the audit period or fiscal year that the applicant operates under (e.g., July 1 through June 30); and an outline of projected costs. The following additional forms must also be included: OMB Standard Form 424A, Budget Information—Non-Construction Programs; OMB Standard Form 424B, Assurances—Non-Construction Programs (both available at http://www.grants.gov); DOJ/FBOP/NIC Certification Regarding Lobbying, Debarment, Suspension and Other Responsibility Matters; and the Drug-Free Workplace Requirements (available at http://www.nicic.org/Downloads/PDF/certif-frm.pdf). Applications should be concisely written, typed double-spaced and reference the NIC Application Number and Title provided in this announcement.

If you are hand delivering or submitting via Fed-Ex, please include an original and three copies of your full proposal (program and budget narrative, application forms, assurances, and curricula). Curricula may be submitted in hard copy or on disk in Word or WordPerfect format. The original should have the applicant's signature in blue ink. Electronic submissions will only be accepted via http://www.grants.gov.

The narrative portion of the application should include, at a minimum: brief paragraph indicating the applicant's understanding of the project's purpose; brief paragraph that summarizes the project goals and objectives; clear description of the methodology that will be used to complete the project and achieve its goals; statement or chart of measurable project milestones and time lines for the completion of each milestone; description of the qualifications of the applicant organization and a resume for the principle and each staff member assigned to the project that documents relevant knowledge, skills and ability to carry out the project; budget that details all costs for the project, shows consideration for all contingencies for this project, and notes a commitment to work within the proposed budget; two curricula developed by the applicant or primary project-team members.

The curricula must include lesson plans, presentation slides, and a participant manual. The application must also include a description of the role of the applicant or project-team member in the development of the sample curricula. The curricula submitted DO NOT have to be related to direct supervision.

Authority: Public Law 93-415.

Funds Available: NIC is seeking applicants' best ideas regarding accomplishments of the scope of work and the related costs for achieving the goals of this solicitation. Funds may only be used for the activities that are linked to the desired outcome of the project.

Eligibility of Applicants: An eligible applicant is any State or general unit of local government, private agency, educational institution, organization, individual or team with expertise in the described areas. Applicants must have demonstrated ability to implement a project of this size and scope.

Review Considerations: Applications will be reviewed by a team of three to five persons. Evaluation will be based on criteria such as: clarity of applicant's understanding of project requirements; background, experience, and expertise of the proposed project staff, including subcontractors; specific level of experience with, and expertise on jails generally, and direct supervision jails in particular; experience with curriculum design based on Instructional Theory into Practice (ITIP); experience in designing, managing, facilitating, or delivering training on direct supervision to jail practitioners who are moving from a traditional jail to a direct supervision jail; clarity of the description of all project elements and tasks; technical soundness of project design and methodology; financial and administrative integrity of the proposal, including adherence to Federal financial guidelines and processes; sufficiently detailed budget that shows consideration of all contingencies for this project and a commitment to work within the budget proposal; indication of availability to meet with NIC staff at various points during the project; and design and quality of sample curricula.

Note: NIC will NOT award a cooperative agreement to an applicant who does not have a Dun and Bradstreet Database Universal Number (DUNS) and is not registered in the Central Contractor Registry (CCR).

Applicants can receive a DUNS number at no cost by calling the dedicated toll-free DUNS number request line at 1-800-333-0505 (if you are a sole proprietor, dial 1-866-705-5711 and select option 1).

Applicants may register in the CCR online at the CCR Web site: http://www.ccr.gov. A CCR handbook and worksheet can also be reviewed at the Web site.

Number of Awards: One.

Applicant's Conference: An applicant's conference will be held on Friday, April 3, 2009 from 1 p.m.-3 p.m. (EDT) at the NIC office, 500 1st Street, NW., 7th Floor, Washington, DC. The Conference will give applicants the opportunity to meet with NIC project staff to ask questions about the project and the application procedures. Attendance at the conference is optional, and those who will be unable to attend in person may request a telephone conference instead. In addition, if you have access to a computer, provisions can be made to conduct a WebEx session. Applicants who plan to attend or who would like to participate via telephone or WebEx should call Robbye Braxton-Mintz, NIC Jails Division, Correctional Program Specialist, at 1-800-995-6423 ext. 4-4562 by 4:30 p.m. (EDT) on Wednesday April 1, 2009 to confirm attendance and receive further instructions.

NIC Opportunity Number: 09J69. This number should appear as a reference line in the cover letter, in box 12 of Standard Form 424 (where it asks for Funding Opportunity Number), and outside of the envelope in which the application is sent.

Catalog of Federal Domestic Assistance Number: 16.601.

Executive Order 12372: This project is not subject to the provision of Executive Order 12372.

Thomas J. Beauclair,
Deputy Director, National Institute of Corrections.

[FR Doc. E9-6113 Filed 3-19-09; 8:45 am]

BILLING CODE 4410-36-P